DEPARTMENT OF EDUCATION

Recognition of Accrediting Agencies, State Agencies for the Approval of Nurse Education

AGENCY: National Advisory Committee on Institutional Quality and Integrity, Department of Education (The Advisory Committee).

What Is the Purpose of This Notice?

The purpose of this notice is to invite written comments on accrediting agencies and State approval agencies whose applications to the Secretary for initial or renewed recognition, requests for an expansion of the scope of recognition, or reports will be reviewed at the Advisory Committee meeting to be held on May 30-June 1, 2007, at The Madison, 1177 15th Street, NW., Washington, DC 20005, telephone: 202-862-1600.

Where Should I Submit My Comments?

Please submit your written comments by mail, fax, or e-mail no later than March 1, 2007 to Ms. Robin Greathouse, Accreditation and State Liaison. You may contact her at the U.S. Department of Education, Room 7105, MS 8509, 1990 K Street, NW., Washington, DC 20006, telephone: (202) 219-7011, fax: (202) 219-7005, or e-mail: Robin.Greathouse@ed.gov. Individuals who use a telecommunications device for the deaf (TDD) may call the Federal Information Relay Service at 1-800-877-8339.

What is the Authority for the Advisory Committee?

The National Advisory Committee on Institutional Quality and Integrity is established under Section 114 of the Higher Education Act (HEA), as amended, 20 U.S.C. 1011c. One of the purposes of the Advisory Committee is to advise the Secretary of Education on the recognition of accrediting agencies and State approval agencies.

Will This Be My Only Opportunity to Submit Written Comments?

Yes, this notice announces the only opportunity you will have to submit written comments. However, a subsequent Federal Register notice will announce the meeting and invite individuals and/or groups to submit requests to make oral presentations before the Advisory Committee on the agencies that the Committee will review. That notice, however, does not offer a second opportunity to submit written comments.

What Happens to the Comments That I Submit?

We will review your comments, in response to this notice, as part of our evaluation of the agencies' compliance with Section 496 of the Higher Education Act of 1965, as amended, and the Secretary's Criteria for Recognition of Accrediting Agencies and State Approval Agencies. The Criteria are regulations found in 34 CFR Part 602 (for accrediting agencies) and in 34 CFR Part 603 (for State approval agencies) and are found at the following site: http://www.ed.gov/admins/finaid/accred/index.html.

We will also include your comments with the staff analyses we present to the Advisory Committee at its May 2007 meeting. Therefore, in order for us to give full consideration to your comments, it is important that we receive them by March 1, 2007. In all instances, your comments about agencies seeking initial recognition, continued recognition and/or an expansion of an agency's scope of recognition must relate to the Criteria for Recognition. In addition, your comments for any agency whose interim report is scheduled for review must relate to the issues raised and the Criteria for Recognition cited in the Secretary's letter that requested the interim report.

What Happens to Comments Received After the Deadline?

We will review any comments received after the deadline. If such comments, upon investigation, reveal that the accrediting agency or State approval agency is not acting in accordance with the Criteria for Recognition, we will take action either before or after the meeting, as appropriate.

What Agencies Will the Advisory Committee Review at the Meeting?

The Secretary of Education recognizes accrediting agencies and State approval agencies for public postsecondary vocational education and nurse education if the Secretary determines that they meet the Criteria for Recognition. Recognition means that the Secretary considers the agency to be a reliable authority as to the quality of education offered by institutions or programs it accredits that are encompassed within the scope of recognition she grants to the agency.

The following agencies will be reviewed during the May 2007 meeting of the Advisory Committee:

Nationally Recognized Accrediting Agencies

Petition for an Expansion of Scope

1. Accrediting Bureau of Health Education Schools (Current scope of recognition: The accreditation of private, postsecondary institutions in the United States offering predominantly allied health education programs and the programmatic accreditation of medical assistant, medical laboratory technician and surgical technology programs, leading to a certificate, diploma, or the Associate of Applied Science and Associate of Occupational Science degrees.) (Requested scope of recognition: The accreditation of private, postsecondary institutions in the United States offering predominantly allied health education programs and the programmatic accreditation of medical assistant, medical laboratory technician and surgical technology programs, leading to a certificate, diploma, Associate of Applied Science, Associate of Occupational Science, or Academic Associate degree, including those offered via distance education.)

Petitions for Renewal of Recognition That Include an Expansion of the Scope of Recognition

1. American Board of Funeral Service Education, Committee on Accreditation (Current scope of recognition: The accreditation of institutions and programs within the United States awarding diplomas, associate degrees and bachelor's degrees in funeral service or mortuary science.) (Requested scope of recognition: The accreditation of institutions and programs within the United States awarding diplomas, associate degrees and bachelor degrees in funeral service and/or mortuary science, including the accreditation of Distance Learning courses and programs offered by these programs and institutions.)

2. American Dietetic Association, Commission on Accreditation for Dietetics Education (Current scope of recognition: The accreditation within the United States of Didactic and Coordinated Programs in Dietetics at both the undergraduate and graduate level, post baccalaureate Dietetic Internships, and Dietetic Technician Programs at the associate degree level and for its accreditation of such programs offered via distance education.) (Requested scope of recognition: The accreditation and preaccreditation within the United States of Didactic and Coordinated Programs in Dietetics at both the undergraduate and graduate level, post baccalaureate Dietetic Internships, and Dietetic Technician Programs at the associate degree level and for its accreditation of such programs offered via distance education.)

3. Council on Accreditation of Nurse Anesthesia Educational Programs (Current scope of recognition: The accreditation of institutions and programs of nurse anesthesia within the United States at the post-master's certificate, master's, or doctoral degree levels.) (Requested scope of recognition: The accreditation of institutions and programs of nurse anesthesia within the United States at the post master's certificate, master's, or doctoral degree levels, including programs offering distance education.)

4. Council on Education for Public Health (Current scope of recognition: The accreditation and preaccreditation (“Preaccreditation status”) within the United States of graduate schools of public health, graduate programs in community health education outside schools of public health, and graduate programs in community health/preventive medicine outside schools of public health.) (Requested scope of recognition: The accreditation within the United States of schools of public health and public health programs outside schools of public health at the baccalaureate and graduate degree levels, including those offered via distance education.)

5. Council on Occupational Education (Current scope of recognition: The accreditation and preaccreditation (“Candidacy status”) throughout the United States of non-degree granting postsecondary occupational/vocational institutions and those postsecondary occupational/vocational education institutions that have state authorization to grant the applied associate degree in specific vocational/occupational fields.) (Requested scope of recognition: The accreditation and preaccreditation (“Candidacy Status”) throughout the United States of postsecondary occupational education institutions offering non-degree and applied associate degree programs in specific career and technical education fields, including institutions that offer programs via distance education.)

Petitions for Renewal of Recognition

1. Association of Advanced Rabbinical and Talmudic Schools, Accreditation Commission (Current and requested scope of recognition: The accreditation and preaccreditation (“Correspondent” and “Candidate”) within the United States of advanced rabbinical and Talmudic schools.)

2. Commission on Accreditation of Healthcare Management Education (Current and requested scope of recognition: The accreditation throughout the United States of graduate programs in health services administration.)

3. Liaison Committee on Medical Education (Current and requested scope of recognition: The accreditation of medical education programs within the United States leading to the M.D. degree.)

4. Middle States Association of Colleges and Schools, Commission on Higher Education (Current and requested scope of recognition: The accreditation and preaccreditation (“Candidacy status”) of institutions of higher education in Delaware, the District of Columbia, Maryland, New Jersey, New York, Pennsylvania, Puerto Rico, and the U.S. Virgin Islands, including distance education programs offered at those institutions.)

5. New England Association of Schools and Colleges, Commission on Technical and Career Institutions (Current and requested scope of recognition: The accreditation and preaccreditation (“Candidate status”) of secondary institutions with vocational-technical programs at the 13th and 14th grade level, postsecondary institutions, and institutions of higher education that provide primarily vocational/technical education at the certificate, associate, and baccalaureate degree levels in Connecticut, Maine, Massachusetts, New Hampshire, Rhode Island, and Vermont. This recognition extends to the Board of Trustees of the Association jointly with the Commission for decisions involving preaccreditation, initial accreditation, and adverse actions.)

6. New York State Board of Regents, and the Commissioner of Education (Current and requested scope of recognition: The accreditation of those degree-granting institutions of higher education in New York that designate the agency as their sole or primary nationally recognized accrediting agency for purposes of establishing eligibility to participate in HEA programs.)

Interim Reports (An interim report is a follow-up report on an accrediting agency's compliance with specific criteria for recognition.)

1. American Association for Marriage and Family Therapy, Commission on Accreditation for Marriage and Family Therapy Education.

2. American Osteopathic Association, Commission on Osteopathic College Accreditation.

3. American Podiatric Medical Association, Council on Podiatric Medical Education.

State Agencies Recognized for the Approval of Nurse Education

Petition for Initial Recognition

1. Kansas State Board of Nursing

Petition for Renewal of Recognition

1. Missouri State Board of Nursing

Federal Agency Seeking Degree-Granting Authority

In accordance with the Federal policy governing the granting of academic degrees by Federal agencies (approved by a letter from the Director, Bureau of the Budget, to the Secretary, Health, Education, and Welfare, dated December 23, 1954), the Secretary is required to establish a review committee to advise the Secretary concerning any legislation that may be proposed that would authorize the granting of degrees by a Federal agency. The review committee forwards its recommendation concerning a Federal agency's proposed degree-granting authority to the Secretary, who then forwards the committee's recommendation and the Secretary's recommendation to the Office of Management and Budget for review and transmittal to the Congress. The Secretary uses the Advisory Committee as the review committee required for this purpose. Accordingly, the Advisory Committee will review the following institution at this meeting:

Proposed Master's Degree-Granting Authority

1. Air University, Maxwell Air Force Base, Alabama (request to award a Master of Science in Flight Test Engineering Degree.)

Where Can I Inspect Petitions and Third-Party Comments Before and After the Meeting?

All petitions and those third-party comments received in advance of the meeting will be available for public inspection at the U.S. Department of Education, Room 7105, MS 8509, 1990 K Street, NW., Washington, DC 20006, telephone (202) 219-7011 between the hours of 8 a.m. and 3 p.m., Monday through Friday, until May 2, 2007. They will be available again after the May 30-June 1, 2007 Advisory Committee meeting. An appointment must be made in advance of such inspection.

How May I Obtain Electronic Access to This Document?

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/index.html.

Authority: 5 U.S.C. Appendix 2.

James F. Manning,
Delegated the Authority of the Assistant Secretary.

[FR Doc. E7-1407 Filed 1-29-07; 8:45 am]

BILLING CODE 4000-01-P